LEGAL SERVICES CORPORATION

Sunshine Act Meeting; Notice: Cancellation

DATE AND TIME: The Legal Services Corporation's Finance Committee meeting scheduled for June 29, 2015 at 2:00 p.m. EDT has been canceled. The meeting was noticed in the Wednesday, June 17, 2015 issue of the Federal Register, 80 FR 34703.

CONTACT PERSON FOR INFORMATION: Katherine Ward, Executive Assistant to the Vice President & General Counsel, at (202) 295-1500. Questions may be sent by electronic mail to FR_NOTICE_QUESTIONS@lsc.gov.

Dated: June 23, 2015.
Katherine Ward,
Executive Assistant to the Vice President for Legal Affairs and General Counsel.

[FR Doc. 2015-15801 Filed 6-23-15; 4:15 pm]

BILLING CODE 7050-01-P